ENVIRONMENTAL PROTECTION AGENCY

[EPA-HQ-OPP-2010-0014; FRL-8864-6]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows an August 4, 2010 Federal Register Notice of Receipt of Requests from the registrants listed in Table 2 of Unit II. to voluntarily cancel these product registrations. In the August 4, 2010 notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective March 2, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

This notice announces the cancellation, as requested by registrants, of 31 products registered under FIFRA section 3. These registrations are listed in sequence by registration number in Table 1 of this unit.

Table 1—Product Cancellations
EPA registration No. | Product name | Active ingredients
000004-00372 | Bonide Pyrenone Garden Dust | Pyperonyl butoxide Pyrethrins
000352-00401 | Dupont Oust Herbicide | Sulfometuron
000498-00160 | Spraypak Wasp and Hornet Killer Foam | Tetramethrin Phenothrin
000498-00178 | Champion Sprayon Roach Spray | Phenothrin
002915-00059 | Insecticide | Tetramethrin Phenothrin
003862-00127 | Wasp and Hornet Killer | Tetramethrin Phenothrin
008842-00003 | Vape Mat | d-Allethrin
008842-00008 | Fumakilla Mosquito Coiles | d-Allethrin
009198-00181 | Anderson's Starter Fertilizer with Preemergent Weed Control | Siduron
044446-00053 | Kill A Bug II Insect Spray | Phenothrin
044446-00066 | Aero Roach & Ant Insecticide | Phenothrin
045188-00002 | Harrison Flea and Tick Shampoo for Dogs | Piperonyl butoxide Pyrethrins MGK 264
050534-00009 | Daconil 2787 Flowable Fungicide | Chlorothalonil
050534-00216 | Countdown L&G | Chlorothalonil
053883-00164 | Sulfometuron Methyl 75 | Sulfometuron
064240-00023 | Combat Flying Insect Killer 2 | Tetramethrin Phenothrin
066330-00253 | 40% Insecticidal Soap | Potassium laurate
084456-00002 | Max-Aba Imidacloprid Technical | Imidacloprid
084538-00003 | Kayari Aromatic Mosquito Coils | d-Allethrin
085678-00001 | Glyph Hoho 4S | Glyphosate-isopropylammonium
085678-00006 | RedEagle Glyphosate Technical | Glyphosate
085678-00007 | Glyphosate 62% Manufacturing Concentrate | Glyphosate-isopropylammonium
CA900010 | Volck Supreme Spray | Mineral Oil—includes paraffin oil from 063503
CA910030 | Volck Supreme Spray | Mineral Oil—includes paraffin oil from 063503
FL890033 | Deamon CC Insecticide | Cypermethrin
KY030003 | Dual Magnum Herbicide | S-Metolachlor
KY030004 | Dual Magnum Herbicide | S-Metolachlor
OR910028 | Fruitone-N | Sodium 1-naphthaleneaceate
TX040007 | Fusilade DX Herbicide | Propanoic acid, 2-(4-((5-(trifluoromethyl)-2-pyridinyl)oxy)phenoxy)-, butyl ester, R-
WA060003 | Subdue Maxx | D-Alanine, N-(2,6-dimethylphenyl)-N-(methoxyacetyl)-methyl ester
WA070003 | Focus SC | Fenarimol

Table 2 of this unit includes the names and addresses of record for all registrants of the products in Table 1 of this unit, in sequence by EPA company number. This number corresponds to the first part of the EPA registration numbers of the products listed in Table 1 of this unit.

Table 2 —Registrants of Cancelled Products
EPA company No. | Company name and address
4 | Bonide Products, Inc., Agent Registrations By Design, Inc., P.O. Box 1019, Salem, VA 24153-3805.
352 | E. I. Du Pont De Nemours and Co., Inc. (S300/419), 1007 Market Street, Wilmington, DE 19898-0001.
498 | Chase Products Co., P.O. Box 70, Maywood, IL 60153.
2915 | The Fuller Brush Company, One Fuller Way, Great Bend, KS 67530.
3862 | ABC Compounding Co, Inc., P.O. Box 16247, Atlanta, GA 30321.
8842 | Fumakilla Ltd., 1330 Dillon Heights Ave, Baltimore, MD 21228-1199.
9198 | The Anderson's Lawn Fertilizer Division, Inc., P.O. Box 119, Maumee, OH 43537.
44446 | Quest Chemical Company, 12255 F.M., 529 Northwoods Industrial Park, Houston, TX 77041.
45188 | Harrison Specialty Co., Inc., 15 University-P.O. Box H, Canton, MA 02021.
50534 | GB Biosciences Corporation, 410 Swing Rd., P.O. Box 18300, Greensboro, NC 27419-5458.
53883 | Control Solutions, Inc., 427 Hide Away Circle, Cub Run, KY 42729.
64240 | Combat Insect Control Systems, 122 C Street, NW., Suite 740, Washington, DC 20001.
66330 | Arysta Lifescience North America, LLC, 155401 Weston Parkway, Suite 150, Cary, NC 27513.
84456 | Hebei Veyong Bio-Chemical Co., Ltd., Agent Wagner Regulatory Associates, Inc., 4760 Lancaster Pike, Suite 9, P.O. Box 640, Hockessin, DE 19707-0640.
84538 | Sathaporn Marketing Company, Ltd., 1330 Dillon Heights Avenue, Baltimore, MD 21228-1199.
85678 | RedEagle International LLC, Agent Wagner Regulatory Associates, Inc., 4760 Lancaster Pike, Suite 9, P.O. Box 640, Hockessin, DE 19707-0640.
CA900010; CA910030 | Wilbur Ellis Company, P.O. Box 1286, Fresno, CA 93715.
FL890033 KY030003; KY030004; TX040007; WA060003 | Syngenta Crop Protection, Inc., ATTN: Regulatory Affairs, P.O. Box 18300, Greensboro, NC 27419-8300.
OR910028 | AMVAC Chemical Corporation, D/B/A AMVAC, 4695 MacArthur Court, Suite 1250, Newport Beach, CA 92660-1706.
WA070003 | Gowan Company, P.O. Box 5569, Yuma, AZ 85336-5569.

III. Summary of Public Comments Received and Agency Response to Comments

During the public comment period provided, EPA received no comments in response to the August 4, 2010 Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II are canceled. The effective date of the cancellations that are subject of this notice is March 2, 2011. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of August 4, 2010 (75 FR 46932) (FRL-8837-9). The comment period closed on January 31, 2011.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until [insert date 1 year after publication of the Cancellation Order], which is 1 year after the publication of the Cancellation Order in the Federal Register Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: February 24, 2011.
Richard P. Keigwin, Jr.,
Director, Pesticide Re-evaluation Division, Office of Pesticide Programs.

[FR Doc. 2011-4656 Filed 3-1-11; 8:45 am]

BILLING CODE 6560-50-P